DEPARTMENT OF EDUCATION

Notice of Proposed Information Collection Requests

AGENCY: Department of Education.

ACTION: Notice of proposed information collection requests.

SUMMARY: The Leader, Regulatory Information Management, Office of the Chief Information Officer, invites comments on the proposed information collection requests as required by the Paperwork Reduction Act of 1995.

DATES: An emergency review has been requested in accordance with the Act (44 U.S.C. Chapter 3507(j)), since public harm is reasonably likely to result if normal clearance procedures are followed. Approval by the Office of Management and Budget (OMB) has been requested by February 24, 2004. A regular clearance process is also beginning. Interested persons are invited to submit comments on or before April 27, 2004.

ADDRESSES: Written comments regarding the emergency review should be addressed to the Office of Information and Regulatory Affairs, Attention: Melanie Kadlic, Desk Officer: Department of Education, Office of Management and Budget; 725 17th Street, NW., Room 10235, New Executive Office Building, Washington, DC 20503 or should be electronically mailed to the Internet address Melanie_Kadlic@omb.eop. gov.

SUPPLEMENTARY INFORMATION: Section 3506 of the Paperwork Reduction Act of 1995 (44 U.S.C. Chapter 35) requires that the Director of OMB provide interested Federal agencies and the public an early opportunity to comment on information collection requests. The Office of management and Budget (OMB) may amend or waive the requirement for public consultation to the extent that public participation in the approval process would defeat the purpose of the information collection, violate State or Federal law, or substantially interfere with any agency's ability to perform its statutory obligations. The Leader, Information Management Group, Office of the Chief Information Officer, publishes this notice containing proposed information collection requests at the beginning of the Departmental review of the information collection. Each proposed information collection, grouped by office, contains the following: (1) Type of review requested, e.g., new, revision, extension, existing or reinstatement; (2) Title; (3) Summary of the collection; (4) Description of the need for, and proposed use of, the information; (5) Respondents and frequency of collection; and (6) Reporting and/or Recordkeeping burden. ED invites public comment. The Department of Education is especially interested in public comment addressing the following issues: (1) Is this collection necessary to the proper functions of the Department; (2) will this information be processed and used in a timely manner; (3) is the estimate of burden accurate; (4) how might the Department enhance the quality, utility, and clarity of this information to be collected; and (5) how might the Department minimize the burden of this collection on respondents, including through the use of information technology.

Dated: February 23, 2004.
Angela C Arrington,
Leader, Regulatory Information Management, Office of the Chief Information Officer.

Office of Innovation and Improvement

Type of Review: New.

Title: DC School Choice Incentive Program.

Abstract: This Program provides low-income parents that reside in DC with expanded options for acquiring a high quality education for their children. To be eligible for scholarships, participating students are DC residents and their household income does not exceed 185% of the poverty line.

Additional Information: This request for an emergency clearance is to collect preliminary and time critical information from parents who may be interested in participating in the vitally important new initiative, the DC School Choice Incentive Program. This Program will give low-income parents in the District of Columbia more options for the education of their children and will provide the Nation with a unique opportunity to test and evaluate the impact of enhanced education choices. The statute calls for the Secretary of Education to carry out the Program in cooperation with the Mayor of the District of Columbia. The President and Secretary of Education have identified this initiative as a top education priority. Both kicked off the Program at an event at Archbishop Carroll High School on Friday, February 13 when they described the potential positive impact of increasing parental choices for improved educational opportunities for their children.

Because of program was just enacted month, the Department of Education is conducting an expedited application process to award a grant by the end of March to an organization that will actually administer the scholarship program; however, the collection of certain eligibility and preference information (see attachment 1) now is critical to supporting the future grantee's work. The DC Mayor's Office will provide for the collection of this information and will make it available to the grantee as soon as the award is made. The grantee must confirm the eligibility of students, establish and conduct a lottery, and select and award the scholarships by June. All these are complex and time-consuming activities that will be greatly facilitated if we can collect the proposed information prior to the grant award. Because of the urgency of distributing this form and collecting information from interested participants, we are requesting OMB approval by February 24, 2004.

Frequency: Annually.

Affected Public: Individuals or household.

Reporting and Recordkeeping Hour Burden:

Responses: 3,000.

Burden Hours: 450.

Request for copies of the proposed information collection request may be accessed from http://edicsweb.ed.gov, by selecting the “Browse Pending Collections” link and by clicking on link number 2466. When you access the information collection, click on “Download Attachments” to view. Written requests for information should be addressed to Vivian Reese, Department of Education, 400 Maryland Avenue, SW., Room 4050, Regional Office Building 3, Washington, DC 20202-4651 or in the e-mail address vivan.reese@ed.gov. Requests may also be electronically mailed to the internet address OCIO_RIMG@ed.gov or faxed to 202-708-9346. Please specify the complete title of the information collection when making your request.

Comments regarding burden and/or the collection activity requirements, contact Kathy Axt at her e-mail address: Kathy.Axt@ed.gov. Individuals who use a telecommunications device for the deaf (TDD) may call the Federal Information Relay Service (FIRS) at 1-800-877-8339.

[FR Doc. 04-4316 Filed 2-26-04; 8:45 am]

BILLING CODE 4000-01-M